DEPARTMENT OF AGRICULTURE

Forest Service

Brown Darby Fuel Reduction Project EIS—Stanislaus National Forest

AGENCY: Forest Service, USDA.

ACTION: Notice of intent to prepare an environmental impact statement.

SUMMARY: The Forest Service will prepare an environmental impact statement (EIS) for a proposal to manage forest resources within and adjacent to the Darby Fire affected area, which burned 14,000 acres in September of 2001 (approximately 10,000 acres burned on lands administrated by the Forest Service). The project area is on the Calaveras Ranger District, Stanislaus National Forest, within Calaveras and Tuolumne Counties, California. The project area is located in the lower watersheds of the North and Middle Forks of the Stanislaus River, east of State Highway 4. It is bounded by private property on the east, west and north, the Middle Fork of the Stanislaus River on the south and the Calaveras Big Trees State park on the northeast.

DATES: Comments concerning the scope of the analysis should be received in writing on or before 10 days after publication of this notice in the Federal Register. While public participation in this analysis is welcome at any time, comments received within 10 days of the publication of this notice will be especially useful in the preparation of the Draft EIS. The scoping process will include identifying: potential issues, significant issues to be analyzed in depth, alternatives to the proposed action, and potential environmental effects of the proposal and alternatives. The draft EIS is expected to be filed with the Environmental Protection Agency and made available for public review in April 2002.

The comment period on the draft environmental impact statement will be 45 days from the date the Environmental Protection Agency publishes the notice of availability in the Federal Register. No date has yet been determined for filing the final EIS.

ADDRESSES: Send written comments to Rob Griffith, district Ranger, P.O. Box 500, Hathaway Pines, CA 95233 or call (209) 795-1381.

FOR FURTHER INFORMATION CONTACT: Kathy Aldrich, Planning Team Leader, (209) 795-1381; e-mail: kaldrich@fs.fed.us.

SUPPLEMENTARY INFORMATION: The Forest Service proposes to treat vegetative fuels on 3,620 acres within or adjacent to the Darby fire area. Treatments proposed include the removal of fire-damaged trees while they are merchantable and before they fall to the ground and accumulate to the point where the fuel loading is at an unacceptable level; thinning stands of live trees immediately adjacent to private property to remove undesirable fuels conditions such as fuel ladders; removal of brush that poses a fire hazard in areas adjacent to private property; removal of fire-killed trees and thinning of the remaining trees in 20 year old pine plantations; and prescribed burning to reduce fuel loading in areas with unacceptable fuel levels on the ground.

The purpose and need for the actions are to: (1) Reduce unacceptable vegetative fuel loading in the project area that current exists and remove sufficient vegetative material killed by the Darby Fire to prevent an unacceptable fuel buildup from fallen material; (2) provide for the rapid restoration of forest communities in areas that experienced a stand-replacing event by removing the fire-killed standing dead vegetation before it falls to the ground. Removal of this material while merchantable would allow for restoration activities to proceed quickly, meeting the goal of the Forest Plan to accelerate development of old forest characteristics; (3) contribute to a sustainable flow of products form these National Forest Lands; and (4) provide resource management in an economically efficient manner, i.e., minimize restoration costs in areas that experienced a stand-replacing event by minimizing the amount of fire-killed material that has deteriorated to the point that a service contract is necessary to have it removed to meet fuels objectives.

Preliminary issues and concerns include effects of treatments on water quality, wildlife habitat, soil quality, riparian areas, threatened/endangered species such as the red-legged frog, valley elderberry long-horn beetle and bald eagle, and Forest Service Sensitive species such as the California spotted owl and goshawk.

The EIS will tier to the Stanislaus National Forest Land and Resource Management Plan and EIS of 1991, as amended by the Sierra Nevada Forest Plan Amendment of 2001, which provide overall guidance for land management activities on the Stanislaus National Forest.

The Reviewers Obligation To Comment

The Forest Service believes it is important to give reviewers notice at this early stage of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978). Also environmental objections that could be raised at the draft environmental impact statement stage but that are not raised until after completion of the final environmental impact statement may be waived or dismissed by the courts (Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement (Reviewers may wish to refer to the Council on Environmental Quality Regulations for implementing the procedural provisions of the National Environmental Policy Act at 40 CFR 1503.3 in addressing these points).

Responsible Official

The Responsible Official is the Forest Supervisor of the Stanislaus National Forest, 19777 Greenley Road, Sonora, CA 95370. The Forest Supervisor will make a decision regarding this proposal considering the comments and response, environmental consequences discussed in the final EIS, and applicable laws, regulations, and policies. The decision and rationale for the decision will be documented in a Record of Decision. That decision will be subject to appeal under applicable Forest Service regulations.

Dated: March 12, 2002.
Daniel A. Young,
Acting Forest Supervisor—Stanislaus National Forest.

[FR Doc. 02-6379 Filed 3-15-02; 8:45 am]

BILLING CODE 3410-11-M